DEPARTMENT OF STATE

[Public Notice 5908]

Meeting of Advisory Committee on International Communications and Information Policy

The Department of State announces the next meeting of its Advisory Committee on International Communications and Information Policy (ACICIP) to be held on October 11, 2007, from 10 a.m. to 12 p.m., in the Loy Henderson Auditorium of the Harry S. Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Richard E. Wiley of Wiley Rein LLP., Ambassador David A. Gross, Deputy Assistant Secretary and U.S. Coordinator for International Communications and Information Policy, and other senior U.S. Government officials will address the meeting.

At this meeting, Ambassador Richard M. Russell will report on the International Telecommunication Union's (ITU) upcoming 2007 World Radiocommunication Conference. In addition, there will be a report on recent bilateral discussions with Brazil's Ministry of Communications, Mexico's Ministry of Communications and Transportation, and Vietnam's Ministry of Information and Communication. There will be discussion on important follow-up work resulting from those talks. The meeting also will focus on upcoming bilateral discussions, including the next meetings of both the U.S.-EU Information Society Dialogue and the U.S.-India Information and Communications Technology (ICT) Working Group.

Members of the public may submit suggestions and comments to the ACICIP. Submissions regarding an event, consultation, meeting, etc. listed in the agenda above should be received by the ACICIP Executive Secretary (contact information below) at least ten working days prior to the date of that listed event. They should be submitted in written form and should not exceed one page for each country (for comments on consultations) or for each subject area (for other comments). Resource limitations preclude acknowledging or replying to submissions.

While the meeting is open to the public, admittance to the Department of State building is only by means of a pre-arranged clearance list. In order to be placed on the pre-clearance list, we must receive the following information from you no later than 5 p.m. on Monday, October 8, 2007 (Please note that this information is not retained by the ACICIP Executive Secretary and must therefore be re-submitted for each ACICIP meeting):

I. State That You Are Requesting Pre-Clearance to a Meeting

II. Provide the Following Information:

1. Name of meeting and its date and time

2. Visitor's full name

3. Company/Agency/Organization

4. Title at Company/Agency/Organization

5. Date of birth

6. Citizenship

7. Type of ID visitor will show upon entry (from list below)

• U.S. driver's license with photo

• Passport

• U.S. government agency ID

8. ID number on the ID visitor will show upon entry

Send the above information to Emily Yee by fax (202) 647-5957 or e-mail YeeE@state.gov.

Privacy Act Statement: The above information is sought pursuant to 5 U.S.C. 301 and 22 U.S.C. 2651a, 4802(a). The principal purpose for collecting the information is to assure protection of U.S. Department of State facilities. The information provided also may be released to Federal, State or local agencies for law enforcement, counter-terrorism or homeland security purposes, or to other federal agencies for certain personnel and records management matters. Providing this information is voluntary but failure to do so may result in denial of access to U.S. Department of State facilities.

All visitors for this meeting must use the 23rd Street entrance. The valid ID bearing the number provided with your pre-clearance request will be required for admittance. Non-U.S. government attendees must be escorted by Department of State personnel at all times when in the building.

For further information, please contact Emily Yee, Executive Secretary of the Committee, at (202) 647-5205 or YeeE@state.gov.

General information about ACICIP and the mission of International Communications and Information Policy at the Department of State is available at our Web site: http://www.state.gov/e/eeb/adcom/c667.htm.

Dated: September 11, 2007.
Emily Yee,
ACICIP Executive Secretary, Department of State.

[FR Doc. E7-18366 Filed 9-17-07; 8:45 am]

BILLING CODE 4710-07-P